DEPARTMENT OF TRANSPORTATION

Federal Aviation Administration

14 CFR Part 71

[Airspace Docket No. 00-ASO-44]

Amendment of Class E5 Airspace; Meridian, MS

AGENCY: Federal Aviation Administration (FAA), DOT.

ACTION: Final rule.

SUMMARY: This action makes a technical amendment to the Class E5 airspace at Meridian, MS. The Navy Meridian NDB has been decommissioned. Therefore, the airspace legal description must be amended to reflect this change.

EFFECTIVE DATE: 0901 UTC, March 22, 2001.

FOR FURTHER INFORMATION CONTACT: Wade T. Carpenter, Jr., Manager, Airspace Branch, Air Traffic Division, Federal Aviation Administration, P.O. Box 20636, Atlanta, Georgia 30320; telephone (404) 305-5586.

SUPPLEMENTARY INFORMATION:

History

The Navy Meridian NDB has been decommissioned. As a result the airspace legal description must be amended. This rule will become effective on the date specified in the EFFECTIVE DATE section. Since this action has no impact on users of the airspace in the vicinity of Meridian NAS-McCain Field, notice and public procedure under 5 U.S.C. 553(b) are unnecessary. Class E airspace designations for airspace areas extending upward from 700 feet or more above the surface of the earth are published in paragraph 6005 of FAA Order 7400.9H, dated September 1, 2000, and effective September 16, 2000, which is incorporated by reference in 14 CFR 71.1. The Class E airspace designation listed in this document will be published subsequently in the Order.

The Rule

This amendment to Part 71 of the Federal Aviation Regulations (14 CFR Part 71) amends Class E5 airspace at Meridian, MS.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 6005 Class E Airspace Areas Extending Upward from 700 Feet or More Above the Surface of the Earth

* * * * *

ASO MS E5 Meridian, MS [Revised]

Meridian, Key Field, MS

(Lat. 32°20′00″N, long. 88°45′04″W)

Meridian VORTAC

(Lat. 32°22′42″N, long. 88°48′15″W)

Joe Williams OLF

(Lat. 32°47′46″N, long. 88°49′54″W)

Meridian NAS-McCain Field

(Lat. 32°33′08″N, long. 88°33′20″W)

Meridian TACAN

(Lat. 32°34′42″N, long. 88°32′43″W)

Kewanee VORTAC

(Lat. 32°22′01″N, long. 88°27′30″W)

That airspace extending upward from 700 feet above the surface within an 8-mile radius of Key Field and within 2.5 miles each side of the Meridian VORTAC 315° radial, extending from the 8-mile radious 7 miles northwest of the VORTAC, and within a 7.4-mile radius of Joe Williams OLF, and within an 8-mile radius of Meridian NAS-McCain Field, and within 4 miles each side of the 020° bearing from lat. 32°33′28″N, long, 88°33′33″W, extending from the 8-mile radius to 20 miles north of Meridian TACAN, and within a 25-mile radius of the Meridian VORTAC, extending clockwise from the 341° radial to the 040° radial, and within 8 miles north and 6 miles south of the Kewanee VORTAC 273° radial, extending from the VORTAC to long. 88°45′00″W.

* * * * *

Issued in College Park, Georgia, on December 1, 2000.
Richard Biscomb,
Acting Manager, Air Traffic Division, Southern Region.

[FR Doc. 00-31479 Filed 12-8-00; 8:45 am]

BILLING CODE 4910-13-M 0